SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) requires agencies to submit proposed reporting and recordkeeping requirements to OMB for review and approval, and to publish a notice in the Federal Register notifying the public that the agency has made such a submission. This notice also allows an additional 30 days for public comments.

DATES: Submit comments on or before July 17, 2019.

ADDRESSES: Comments should refer to the information collection by name and/or OMB Control Number and should be sent to: Agency Clearance Officer, Curtis Rich, Small Business Administration, 409 3rd Street, SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: A copy of the Form OMB 83-1, supporting statement, and other documents submitted to OMB for review may be obtained from the Agency Clearance Officer.

SUPPLEMENTARY INFORMATION: The collected information is submitted by small business concerns seeking certification as a qualified HUBZone small business. SBA uses the information to verify a concern's eligibility for the HUBZone programs, to complied a database of qualified small business concerns, as well as for the re-certification and examination of certified HUBZone small business concerns. Finally SBA uses the information to prepare reports for the Executive and legislative branches.

Solicitation of Public Comments

Title: “HUBZone Program Electronic Application, Re-certification and Program Examination”.

Description of Respondents: Small business concerns seeking certification as a qualified HUBZone.

Form Number: SBA Form 2103.

Estimated Annual Responses: 3,189.

Estimated Annual Hour Burden: 7,189.

Curtis Rich,
Management Analyst.

[FR Doc. 2019-12715 Filed 6-14-19; 8:45 am]

BILLING CODE 8026-03-P